DEPARTMENT OF COMMERCE

National Oceanic and Atmospheric Administration

RIN 0648-XC573

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This Exempted Fishing Permit would exempt commercial fishing vessels from whiting possession limits to test an experimental trawl net as a means to reduce winter flounder bycatch in the small-mesh whiting and squid fisheries. The research is being conducted by Cornell University Cooperative Extension of Suffolk County, NY.

Regulations under the Magnuson-Stevens Fishery Conservation and Management Act require publication of this notification to provide interested parties the opportunity to comment on applications for proposed EFPs.

DATES: Comments must be received on or before April 24, 2013.

ADDRESSES: You may submit written comments by any of the following methods:

• Email: nero.efp@noaa.gov. Include in the subject line “Comments on CCE Winter Flounder EFP.”

• Mail: John K. Bullard, Regional Administrator, NMFS, NE Regional Office, 55 Great Republic Drive, Gloucester, MA 01930. Mark the outside of the envelope “Comments on CCE Winter Flounder EFP.”

• Fax: (978) 281-9135.

FOR FURTHER INFORMATION CONTACT: Jason Berthiaume, Fishery Management Specialist, 978-281-9177.

SUPPLEMENTARY INFORMATION: The Cornell Cooperative Extension (CCE) submitted a complete application for an Exempted Fishing Permit (EFP) on March 13, 2013, to conduct commercial fishing activities that the regulations would otherwise restrict. The EFP would exempt two vessels from the Northeast multispecies whiting possession limit restrictions and would temporarily exempt the vessels from the winter flounder possession and size limits to conduct onboard sampling.

This project proposes to evaluate bottom trawl modifications as a means to reduce winter flounder bycatch in the small-mesh longfin squid and whiting fisheries. To accurately quantify both whiting and squid catch rates, the project coordinators propose to use a 2.125-in (5.4-cm) mesh codend. This project would build upon previous research that also utilized 2.125-in (5.4-cm) mesh, which is the industry standard for the squid fishery. The researchers propose to continue to use a 2.125-in (5.4-cm) mesh codend to maintain consistency in the data. However, due to the number of tows necessary to collect adequate data on the effectiveness of the gear, the catch rates for whiting are expected to be more than the 3,500-lb (1,588-kg) whiting possession limit for a 2.125-in (5.4-cm) mesh codend. To avoid wasteful discarding of whiting and to allow the continued use of 2.125-in (5.4-cm) mesh, the applicant requested an exemption from the whiting possession limit.

Researchers from CCE will work with two commercial fishing vessels to further test the performance of a 12-inch (30.5-cm) drop chain sweep and 7 ft (64.8 cm) of large-mesh belly panel to reduce winter flounder bycatch. The nets will be industry standard small-mesh nets, with the experimental net using a drop chain sweep and large-mesh belly panels. Both nets will use a 2.125-in (5.4-cm) mesh codend to account for any smaller whiting or longfin squid. Whiting, and other legally permitted species within applicable possession limits, will be landed and sold. Winter flounder will be possessed temporarily for scientific workup and will not be landed for commercial sale. Both winter flounder and whiting will be sampled onboard using standard NMFS catch sampling methods.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 3, 2013.
James P. Burgess,
Acting Deputy Director, Office of Sustainable Fisheries, National Marine Fisheries Service.

[FR Doc. 2013-08128 Filed 4-8-13; 8:45 am]

BILLING CODE 3510-22-P